DEPARTMENT OF ENERGY

Federal Energy Regulatory Commission

Combined Notice of Filings

Take notice that the Commission has received the following Natural Gas Pipeline Rate and Refund Report filings:

Filings Instituting Proceedings

Docket Numbers: RP19-262-001.

Applicants: Hardy Storage Company, LLC.

Description: Compliance filing Hardy Storage 501-G Settlement Implementation to be effective 1/1/2019.

Filed Date: 11/30/18.

Accession Number: 20181130-5200.

Comments Due: 5 p.m. ET 12/12/18.

Docket Numbers: RP19-294-001.

Applicants: Centra Pipelines Minnesota Inc.

Description: eTariff filing per 1430: Form 501G Filing.

Filed Date: 11/30/18.

Accession Number: 20181130-5092.

Comments Due: 5 p.m. ET 12/12/18.

Docket Numbers: RP19-355-000.

Applicants: Equitrans, L.P.

Description: § 4(d) Rate Filing: Equitrans Clean Up Filing—Nov 2018 to be effective 12/31/2018.

Filed Date: 11/30/18.

Accession Number: 20181130-5144.

Comments Due: 5 p.m. ET 12/12/18.

Docket Numbers: RP19-356-000.

Applicants: Gulf South Pipeline Company, LP.

Description: § 4(d) Rate Filing: Cap Rel Neg Rate Agmt (Petrohawk 41455 to BP 50287) to be effective 12/1/2018.

Filed Date: 11/30/18.

Accession Number: 20181130-5149.

Comments Due: 5 p.m. ET 12/12/18.

Docket Numbers: RP19-357-000.

Applicants: Southern Star Central Gas Pipeline, Inc.

Description: § 4(d) Rate Filing: Vol. 2—Non-Conforming Rate Agreement—Empire District Electric Company to be effective 12/1/2018.

Filed Date: 11/30/18.

Accession Number: 20181130-5154.

Comments Due: 5 p.m. ET 12/12/18.

Docket Numbers: RP19-358-000.

Applicants: Gulf South Pipeline Company, LP.

Description: § 4(d) Rate Filing: Cap Rel Neg Rate Agmts (Atlanta Gas 8438 to various eff 12-1-2018) to be effective 12/1/2018.

Filed Date: 11/30/18.

Accession Number: 20181130-5157.

Comments Due: 5 p.m. ET 12/12/18.

Docket Numbers: RP19-359-000.

Applicants: TransColorado Gas Transmission Company LLC.

Description: § 4(d) Rate Filing: Fuel Gas Reimbursement Mechanism Update to be effective 1/1/2019.

Filed Date: 11/30/18.

Accession Number: 20181130-5165.

Comments Due: 5 p.m. ET 12/12/18.

Docket Numbers: RP19-360-000.

Applicants: Transcontinental Gas Pipe Line Company, LLC.

Description: § 4(d) Rate Filing: Non-Conforming—Gulf Connector to be effective 1/1/2019.

Filed Date: 11/30/18.

Accession Number: 20181130-5167.

Comments Due: 5 p.m. ET 12/12/18.

Docket Numbers: RP19-361-000.

Applicants: Rager Mountain Storage Company LLC.

Description: § 4(d) Rate Filing: RMSC's Clean-Up Filing—Nov 2018 to be effective 12/31/2018.

Filed Date: 11/30/18.

Accession Number: 20181130-5168.

Comments Due: 5 p.m. ET 12/12/18.

Docket Numbers: RP19-362-000.

Applicants: NEXUS Gas Transmission, LLC.

Description: § 4(d) Rate Filing: West of Milford Surcharge Reduction to be effective 12/1/2018.

Filed Date: 11/30/18.

Accession Number: 20181130-5176.

Comments Due: 5 p.m. ET 12/12/18.

Docket Numbers: RP19-363-000.

Applicants: Rockies Express Pipeline LLC.

Description: § 4(d) Rate Filing: Neg Rate 2018-11-30 E2W (7) to be effective 12/1/2018.

Filed Date: 11/30/18.

Accession Number: 20181130-5212.

Comments Due: 5 p.m. ET 12/12/18.

Docket Numbers: RP19-364-000.

Applicants: Equitrans, L.P.

Description: § 4(d) Rate Filing: Negotiated Rate Agreement—Revised EQT Energy FTS Agreement to be effective 12/1/2018.

Filed Date: 11/30/18.

Accession Number: 20181130-5262.

Comments Due: 5 p.m. ET 12/12/18.

Docket Numbers: RP19-365-000.

Applicants: Tennessee Gas Pipeline Company, L.L.C.

Description: Compliance filing Cashout Report 2017-2018 to be effective N/A.

Filed Date: 11/30/18.

Accession Number: 20181130-5270.

Comments Due: 5 p.m. ET 12/12/18.

Docket Numbers: RP19-366-000.

Applicants: Northern Natural Gas Company.

Description: § 4(d) Rate Filing: 20181130 Negotiated Rate to be effective 12/1/2018.

Filed Date: 11/30/18.

Accession Number: 20181130-5276.

Comments Due: 5 p.m. ET 12/12/18.

Docket Numbers: RP19-367-000.

Applicants: Tennessee Gas Pipeline Company, L.L.C.

Description: § 4(d) Rate Filing: Volume No. 2—Corpus Christi Liquefaction, LLC SP309057 to be effective 1/1/2019.

Filed Date: 11/30/18.

Accession Number: 20181130-5280.

Comments Due: 5 p.m. ET 12/12/18.

Docket Numbers: RP19-368-000.

Applicants: Tennessee Gas Pipeline Company, L.L.C.

Description: § 4(d) Rate Filing: Volume No. 2—Sequent Energy Management, L.P SP343212 to be effective 1/1/2019.

Filed Date: 11/30/18.

Accession Number: 20181130-5281.

Comments Due: 5 p.m. ET 12/12/18.

Docket Numbers: RP19-369-000.

Applicants: Columbia Gas Transmission, LLC.

Description: § 4(d) Rate Filing: Index of Market Areas—Mountaineer XPress to be effective 12/30/2018.

Filed Date: 11/30/18.

Accession Number: 20181130-5284.

Comments Due: 5 p.m. ET 12/12/18.

Docket Numbers: RP19-370-000.

Applicants: Gas Transmission Northwest LLC.

Description: Compliance filing Compliance to RP15-904-001 (Implement 501-G Settlement) to be effective 1/1/2019.

Filed Date: 11/30/18.

Accession Number: 20181130-5288.

Comments Due: 5 p.m. ET 12/12/18.

Docket Numbers: RP19-371-000.

Applicants: Columbia Gas Transmission, LLC.

Description: § 4(d) Rate Filing: TCO MXP Neg Rate and NC Agreements to be effective 12/30/2018.

Filed Date: 11/30/18.

Accession Number: 20181130-5295.

Comments Due: 5 p.m. ET 12/12/18.

Docket Numbers: RP19-372-000.

Applicants: Columbia Gulf Transmission, LLC.

Description: § 4(d) Rate Filing: GXP Neg Rate NC Agreements Filing to be effective 12/30/2018.

Filed Date: 11/30/18.

Accession Number: 20181130-5306.

Comments Due: 5 p.m. ET 12/12/18.

Docket Numbers: RP19-373-000.

Applicants: El Paso Natural Gas Company, L.L.C.

Description: § 4(d) Rate Filing: Negotiated Rate Agreement Update (Conoco Dec 2018-Feb 2019) to be effective 12/1/2018.

Filed Date: 11/30/18.

Accession Number: 20181130-5307.

Comments Due: 5 p.m. ET 12/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2018.
Nathaniel J. Davis, Sr.,
Deputy Secretary.

[FR Doc. 2018-26642 Filed 12-7-18; 8:45 am]

BILLING CODE 6717-01-P